OFFICE OF PERSONNEL MANAGEMENT

5 CFR Part 532

RIN 3206-AL44

Prevailing Rate Systems; Abolishment of Rock Island, IL, as a Nonappropriated Fund Federal Wage System Wage Area

AGENCY: U.S. Office of Personnel Management.

ACTION: Final rule.

SUMMARY: The U.S. Office of Personnel Management is issuing a final rule to abolish the Rock Island, Illinois, nonappropriated fund (NAF) Federal Wage System (FWS) wage area and redefine Rock Island County, IL, and Johnson County, Iowa, as areas of application to the Lake, IL, NAF FWS wage area. Carroll County, IL, will no longer be defined. These changes are necessary because employment has significantly declined in the Rock Island NAF wage area.

DATES: Effective date: This regulation is effective on February 14, 2008. Applicability date: This regulation applies on the first day of the first applicable pay period beginning on or after December 15, 2007.

FOR FURTHER INFORMATION CONTACT: Madeline Gonzalez, (202) 606-2838; email pay-performance-policy@opm.gov; or FAX: (202) 606-4264.

SUPPLEMENTARY INFORMATION: On November 14, 2007, the U.S. Office of Personnel Management (OPM) issued an interim rule (72 FR 63968) to abolish the Rock Island, Illinois, nonappropriated fund (NAF) Federal Wage System (FWS) wage area, redefine Rock Island County, IL, and Johnson County, Iowa, as areas of application to the Lake, IL, NAF FWS wage area, and remove Carroll County, IL, from the wage area definition. The interim rule had a 30-day public comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Linda M. Springer,
Director.

Accordingly, under the authority of 5 U.S.C. 5343, the interim rule published on November 14, 2007, amending 5 CFR part 532 (72 FR 63968) is adopted as final with no changes.

[FR Doc. E8-2818 Filed 2-13-08; 8:45 am]

BILLING CODE 6325-39-P